DEPARTMENT OF THE TREASURY

Submission for OMB Review; Comment Request

July 13, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before August 21, 2006 to be assured of consideration.

Alcohol and Tobacco Tax and Trade Bureau (TTB)

OMB Number: 1513-0057.

Type of Review: Extension.

Title: Letterhead Application and Notices Relating to Wine.

Form: TTB REC 5120/2.

Description: Letterhead application and notices relating to wine are required to ensure the intended activity will not jeopardize the revenue or defraud consumers.

Respondents: Business or other for-profit.

Estimated Total Burden Hours: 825 hour.

OMB Number: 1513-0010.

Type of Review: Extension.

Title: Bonded Wineries—Formula and Process for Wine, Letterhead Application and Notices relating to Formula Wine.

Form: TTB F 5120.29.

Description: TTB F 5120.29 is used to determine the classification of wines for labeling and consumer protection. The form describes the person filing, type of product to be made and restrictions to the labeling and manufacture. The form is also used to audit a product.

Respondents: Business or other for-profit.

Estimated Total Burden Hours: 1,200 hour.

OMB Number: 1513-0088.

Type of Review: Extension.

Title: Alcohol, Tobacco and Firearms, Tax Returns, Claims and Related Documents.

Form: TTB REC 5000/24.

Description: TTB is responsible for the collection of the excise taxes on firearms, ammunition, distilled spirits, wine, beer, cigars, cigarettes, chewing tobacco, snuff, cigarette papers and tubes and pipe tobacco. Alcohol, tobacco, firearms and ammunition excise taxes are required to be collected on the basis of a return.

Respondents: Business or other for-profit, individuals or households and not-for-profit.

Estimated Total Burden Hours: 503,921 hours.

OMB Number: 1513-0121.

Type of Review: Revision.

Title: Labeling of major food allergens.

Description: The collection of information involves voluntary labeling of major food allergens used in the production of alcohol beverages and also involves petitions for exemption from full allergen labeling. The collection corresponds to the recent amendments to the FD&C Act in Title II of Public Law 108-282, 118 Stat. 905.

Respondents: Business or other for-profit.

Estimated Total Burden Hours: 730 hour.

Clearance Officer: Frank Foote, (202) 927-9347, Alcohol and Tobacco Tax and Trade Bureau, Room 200 East, 1310 G. Street, NW., Washington, DC 20005.

OMB Reviewer: Alexander T. Hunt, (202) 395-7316, Office of Management and Budget, Room 10235, New Executive Office Building, Washington, DC 20503.

Michael A. Robinson,
Treasury PRA Clearance Officer.

[FR Doc. E6-11482 Filed 7-19-06; 8:45 am]

BILLING CODE 4810-31-P